FEDERAL DEPOSIT INSURANCE CORPORATION

Agency Information Collection Activities: Proposed Collection Reinstatement and Renewal; Comment Request; (3064-0029)

AGENCY: Federal Deposit Insurance Corporation (FDIC).

ACTION: Notice and request for comment.

SUMMARY: The FDIC, as part of its continuing effort to reduce paperwork and respondent burden, invites the general public and other Federal agencies to take this opportunity to comment on the reinstatement and renewal of an existing information collection, as required by the Paperwork Reduction Act of 1995. Currently the FDIC is soliciting comment on the reinstatement and renewal of the information collection described below.

DATES: Comments must be submitted on or before September 9, 2016.

ADDRESSES: Interested parties are invited to submit written comments to the FDIC by any of the following methods:

• http://www.FDIC.gov/regulations/laws/federal/.

• Email: comments@fdic.gov. Include the name of the collection in the subject line of the message.

• Mail: Manny Cabeza (202.898.3767), Counsel MB-3105, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza at the FDIC address above.

SUPPLEMENTARY INFORMATION:

Proposal to reinstate and renew the following previously-approved collection of information:

1. Title: Notification of Performance of Bank Services.

OMB Number: 3064-0029.

Form Numbers: FDIC 6120/06.

Affected Public: Business or other financial institutions.

Estimated Number of Respondents: 40.

Estimated Time per Response: ½ hour.

Frequency of Response: On occasion.

Total estimated annual burden: 20 hours.

General Description of Collection: Insured state nonmember banks and state savings associations are required to notify the FDIC, under section 7 of the Bank Service Corporation Act (12 U.S.C. 1867), of the relationship with a bank service corporation. Form 6120/06 (Notification of Performance of Bank Services) may be used by banks to satisfy the notification requirement.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 6th day of July 2016.
Federal Deposit Insurance Corporation.
Robert E. Feldman,
Executive Secretary

[FR Doc. 2016-16339 Filed 7-8-16; 8:45 am]

BILLING CODE 6714-01-P